DEPARTMENT OF ENERGY

10 CFR Part 430

[EERE-2017-BT-STD-0062]

Energy Conservation Program: Procedures, Interpretations, and Policies for Consideration of New or Revised Energy Conservation Standards for Consumer Products

AGENCY: Office of Energy Efficiency and Renewable Energy, Department of Energy.

ACTION: Notice of comment period extension.

SUMMARY: The Department of Energy (DOE) published, on December 18, 2017, a Request for Information (RFI) seeking comments from interested parties to assist DOE in identifying potential modifications to its “Process Rule” for the development of appliance standards. The comment period for the RFI ends on February 16, 2018. Through this notice, DOE extends the comment period until March 2, 2018.

DATES: The comment period for the RFI published in the Federal Register on December 18, 2017 (82 FR 59992) is extended to March 2, 2018. Written comments and information are requested on or before March 2, 2018.

ADDRESSES: Interested persons are encouraged to submit comments by any of the following methods:

• Federal eRulemaking Portal: http://www.regulations.gov. Follow the instructions for submitting comments.

• Email: Regulatory.Review@hq.doe.gov. Include “Process Rule RFI” in the subject line of the message.

• Postal Mail: U.S. Department of Energy, Office of General Counsel, 1000 Independence Avenue SW, Room 6A245, Washington, DC 20585

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2017-BT-STD-0062. The docket web page will contain simple instructions on how to access all documents, including public comments, in the docket.

FOR FURTHER INFORMATION CONTACT: Caitlin Davis, U.S. Department of Energy, Office of Energy Efficiency and Renewable Energy, 1000 Independence Avenue SW, Washington, DC 20585. Email: Regulatory.Review@hq.doe.gov. Telephone: 202-586-6803.

SUPPLEMENTARY INFORMATION: As part of its implementation of, “Reducing Regulation and Controlling Regulatory Costs,” (January 30, 2017) and, “Enforcing the Regulatory Reform Agenda,” (February 24, 2017), the Department of Energy (DOE) published a Request for Information (RFI), on December 18, 2017 (82 FR 59992), seeking comments from interested parties to assist DOE in identifying potential modifications to its “Process Rule” for the development of appliance standards, in an effort to achieve meaningful burden reduction while continuing to achieve the Department's statutory obligations in the development of appliance standards. DOE also held a public meeting to receive input from interested parties on potential improvements to the “Process Rule”. The comment period for the RFI was previously February 16, 2018. At the public meeting, DOE received several requests to extend the comment period to give interested parties sufficient opportunity to provide comments and information on this topic. In addition, in a joint letter dated January 29, 2018, the Air Conditioning, Heating & Refrigeration Institute, Association of Home Appliance Manufacturers, and National Electrical Manufacturers Association together offered DOE support in its efforts to improve the Process Rule and requested that the comment period for the RFI be extended. (EERE-2017-STD-0062-0017)

The Department intends to move forward expeditiously with further actions to improve the “Process Rule”. Given the importance to DOE of receiving public input on means to make such improvements, however, DOE grants those requests and extends the comment period for an additional two weeks, until March 2, 2018.

Approval of the Office of the Secretary

The Secretary of Energy has approved the publication of this document.

Issued in Washington, DC, on January 31, 2018.
Daniel R Simmons,
Principal Deputy Assistant Secretary, Energy Efficiency and Renewable Energy.

[FR Doc. 2018-02440 Filed 2-6-18; 8:45 am]

BILLING CODE 6450-01-P